DEPARTMENT OF DEFENSE

Department of Navy

Notice of Intent To Grant an Exclusive License; Aviation Devices and Electronic Components, L.L.C.

AGENCY: Department of the Navy, DoD.

ACTION: Notice.

SUMMARY: The Department of the Navy hereby gives notice of its intent to grant to Aviation Devices and Electronic Components, L.L.C., located at 3215 West Loop 820 South, Fort Worth, TX 76116, a revocable, nonassignable, exclusive license throughout all the contracting states of the European Patent Convention (EP), Mexico (MX), Canada (CA), and the Republic of Korea (KR) in all fields of use to practice the Government-Owned invention described in Patent Cooperation Treaty (PCT) Application Number PCT/US17/63346 filed November 28, 2017 entitled “Synergistic Metal Polycarboxylate Corrosion Inhibitors,” Navy Case Number PAX236.

DATES: Anyone wishing to object to the grant of this license must file written objections along with supporting evidence, if any, not later than October 25, 2018.

ADDRESSES: Written objections are to be filed with the Naval Air Warfare Center Aircraft Division, Technology Transfer Office, Attention Michelle Miedzinski, Code 5.0H, 22347 Cedar Point Road, Building 2185, Box 62, Room 2160, Patuxent River, Maryland 20670. File an electronic copy of objection with michelle.miedzinski@navy.mil.

FOR FURTHER INFORMATION CONTACT: Michelle Miedzinski, 301-342-1133, Naval Air Warfare Center Aircraft Division, 22347 Cedar Point Road, Building 2185, Box 62, Room 2160, Patuxent River, Maryland 20670, michelle.miedzinski@navy.mil.

Authority: 35 U.S.C. 207, 37 CFR part 404.

Dated: October 3, 2018.
Meredith Steingold Werner,
Lieutenant Commander, Judge Advocate General's Corps, U.S. Navy, Federal Register Liaison Officer.

[FR Doc. 2018-21962 Filed 10-9-18; 8:45 am]

BILLING CODE 3810-FF-P